DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT:

OFAC: Associate Director for Global Targeting, tel.: 202-622-2420; Assistant Director for Sanctions Compliance & Evaluation, tel.: 202-622-2490; Assistant Director for Licensing, tel.: 202-622-2480; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (www.treas.gov/ofac).

Notice of OFAC Actions

On May 24, 2018, OFAC determined that the property and interests in property subject to U.S. jurisdiction of the following persons are blocked under the relevant sanctions authorities listed below.

Individuals

1. YEGANE, Gulnihal (a.k.a. YEGANE AKSIT, Gulnihal; a.k.a. YEGANE, Gulnihal Kulak), Merkez Mah. Hasat Sok. No. 52/6 Sisli, Istanbul 21344, Turkey; Egs Bloklari B-1 Blok K.1 No: 114, Yesilkoy-Bakirkoy, Istanbul, Turkey; DOB 15 Sep 1975; POB Karabuk, Kula, Turkey; alt. POB Manisa, Kula, Turkey; nationality Turkey; Additional Sanctions Information—Subject to Secondary Sanctions; Gender Female; Passport 791029 (Turkey); National ID No. 27224237098 (Turkey) (individual) [SDGT] [IFSR] (Linked To: MAHAN AIR).

Designated pursuant to section 1(d)(i) of Executive Order 13224 of September 23, 2001, “Blocking Property and Prohibiting Transactions With Persons Who Commit, Threaten to Commit, or Support Terrorism,” (E.O. 13224) for assisting in, sponsoring, or providing financial, material, technological support for, or financial or other services to or in support of, Iran's MAHAN AIR, a person determined to be subject to E.O. 13224.

2. RONAGHI, Iraj, No. 3-11 Tower B, Tehran Towers, Hormozan St. Phase 2, Shahrak, Qods, Tehran, Iran; DOB 18 Nov 1952; POB Tehran, Iran; citizen Iran; Additional Sanctions Information—Subject to Secondary Sanctions; Gender Male (individual) [SDGT] [IFSR] (Linked To: MERAJ AIR).

Designated pursuant to sections 1(c) of E.O. 13224 for acting for or on behalf of Iran's MERAJ AIR, a person determined to be subject to E.O. 13224.

3. ZANGANEH, Touraj (a.k.a. ZANGANEH, Tooraj Dehghani; a.k.a. ZANGENE, Touraj Dehgani; a.k.a. ZANGENEH, Touraj Dehghani), Iran; DOB 05 Aug 1958; POB Kermanshah, Iran; citizen Iran; Additional Sanctions Information—Subject to Secondary Sanctions; Gender Male (individual) [SDGT] [IFSR] (Linked To: MERAJ AIR).

Designated pursuant to sections 1(c) of E.O. 13224 for acting for or on behalf of Iran's MERAJ AIR, a person determined to be subject to E.O. 13224.

Entities

1. BLUE AIRWAYS (a.k.a. BLUE SKY SZE), Mahan Air Tower, Azadegn Street, Karaj Highway, Tehran, Iran; Additional Sanctions Information—Subject to Secondary Sanctions [SDGT] [IFSR] (Linked To: MAHAN AIR).

Designated pursuant to section 1(c) of E.O. 13224 for acting for or on behalf of Iran's MAHAN AIR, a person determined to be subject to E.O. 13224.

Also designated pursuant to section 1(d)(i) for assisting in, sponsoring, or providing financial, material, technological support for, or financial or other services to or in support of, Iran's MAHAN AIR, a person determined to be subject to E.O. 13224.

2. OTIK AVIATION (a.k.a. OTIK HAVACILIK SANAYI VE TICARET LIMITED SIRKETI), Kent Pasaji C Blok No: 2/33-3, Halaskargazi Caddesi Eftal Sokak Sisli, Istanbul 34371, Turkey; Halaskar Gazi Cad. Eftal Sk. Kent Pasaji No: 2/33 Sisli, Istanbul 31371, Turkey; Additional Sanctions Information—Subject to Secondary Sanctions; Registration ID 844437 (Turkey) [SDGT] [IFSR] (Linked To: MAHAN AIR).

Designated pursuant to section 1(d)(i) of E.O. 13224 for assisting in, sponsoring, or providing financial, material, technological support for, or financial or other services to or in support of, Iran's MAHAN AIR, a person determined to be subject to E.O. 13224.

3. TRIGRON LOJISTIK KARGO LIMITED SIRKETI (a.k.a. TRIGRON CARGO LOGISTICS LTD.; a.k.a. TRIGRON KARGO; a.k.a. TRIGRON KARGO LOJISTIK), Airport Hill Sitesi C Blok D. 6, NO: 11-D, Degirmenbahce Caddesi 11-D-C Blok, Bahcelievler, Istanbul 34180, Turkey; Additional Sanctions Information—Subject to Secondary Sanctions; Business Registration Document # 846711 (Turkey) [SDGT] [IFSR] (Linked To: MAHAN AIR; Linked To: YEGANE, Gulnihal).

Designated pursuant to section 1(c) of E.O. 13224 for being owned or controlled by GULNIHAL YEGANE, a person determined to be subject to E.O. 13224.

Also designated pursuant to section 1 (d)(i) of E.O. 13224 for assisting in, sponsoring, or providing financial, material, technological support for, or financial or other services to or in support of, MAHAN AIR, a person determined to be subject to E.O. 13224.

4. 3G LOJISTIK VE HAVACILIK HIZMETLERI LTD. SIRKETI, No. 3/182 Altintepe Bagdat Cad. Istasyon Yolu Sok., Istanbul 34840, Turkey; Additional Sanctions Information—Subject to Secondary Sanctions [SDGT] [IFSR] (Linked To: MAHAN AIR).

Designated pursuant to section 1(d)(i) of E.O. 13224 for assisting in, sponsoring, or providing financial, material, technological support for, or financial or other services to or in support of, MAHAN AIR, a person determined to be subject to E.O. 13224.

5. RA HAVACILIK LOJISTIK VE TASIMACILIK TICARET LIMITED SIRKETI, No: 3/101, Yesilce Mahallesi Dalgic Sokak, Kagithane, Istanbul, Turkey; Additional Sanctions Information—Subject to Secondary Sanctions; Business Registration Document #49840 (Turkey); Tax ID No. 7340903161 (Turkey) [SDGT] [IFSR] (Linked To: MAHAN AIR).

Designated pursuant to section 1(d)(i) of E.O. 13224 for assisting in, sponsoring, or providing financial, material, technological support for, or financial or other services to or in support of, MAHAN AIR, a person determined to be subject to E.O. 13224.

6. DENA AIRWAYS (a.k.a. DENA AIRLINES), Tehran, Iran; Additional Sanctions Information—Subject to Secondary Sanctions [SDGT] [IFSR] (Linked To: MERAJ AIR; Linked To: RONAGHI, Iraj; Linked To: ZANGANEH, Touraj).

Designated pursuant to section 1(c) of E.O. 13224 for being owned or controlled by IRAJ RONAGHI, a person determined to be subject to E.O. 13224.

Also designated pursuant to section 1(c) of E.O. 13224 for being owned or controlled by TOURAJ ZANGANEH, a person determined to be subject to E.O. 13224.

Also designated pursuant to section 1(c) of E.O. 13224 for acting for or on behalf of Iran's MERAJ AIR, persons determined to be subject to E.O. 13224.

Aircraft

1. EP-CAQ; Aircraft Manufacture Date 01 Oct 1992; Aircraft Model B737; Aircraft Operator Caspian Air; Aircraft Manufacturer's Serial Number (MSN) 26467; Additional Sanctions Information—Subject to Secondary Sanctions (aircraft) [SDGT] [IFSR] (Linked To: CASPIAN AIRLINES).

Blocked pursuant to E.O. 13224 for being property in which CASPIAN AIR, a person whose property and interest in property are blocked, has an interest.

2. EP-CAR; Aircraft Manufacture Date 21 Jun 1993; Aircraft Model B737; Aircraft Operator Caspian Air; Aircraft Manufacturer's Serial Number (MSN) 26451; Additional Sanctions Information—Subject to Secondary Sanctions (aircraft) [SDGT] [IFSR] (Linked To: CASPIAN AIRLINES).

Blocked pursuant to E.O. 13224 for being property in which CASPIAN AIR, a person whose property and interest in property are blocked, has an interest.

3. EP-CAS; Aircraft Manufacture Date 31 Aug 1999; Aircraft Model DC-9; Aircraft Operator Caspian Air; Aircraft Manufacturer's Serial Number (MSN) 53623; Additional Sanctions Information—Subject to Secondary Sanctions (aircraft) [SDGT] [IFSR] (Linked To: CASPIAN AIRLINES).

Blocked pursuant to E.O. 13224 for being property in which CASPIAN AIR, a person whose property and interest in property are blocked, has an interest.

4. EP-CPD; Aircraft Manufacture Date Aug 1995; Aircraft Model DC-9; Aircraft Operator Caspian Air; Aircraft Manufacturer's Serial Number (MSN) 53188; Additional Sanctions Information—Subject to Secondary Sanctions (aircraft) [SDGT] [IFSR] (Linked To: CASPIAN AIRLINES).

Blocked pursuant to E.O. 13224 for being property in which CASPIAN AIR, a person whose property and interest in property are blocked, has an interest.

5. EP-CPU; Aircraft Manufacture Date Apr 1994; Aircraft Model DC-9; Aircraft Operator Caspian Air; Aircraft Manufacturer's Serial Number (MSN) 53223; Additional Sanctions Information—Subject to Secondary Sanctions (aircraft) [SDGT] [IFSR] (Linked To: CASPIAN AIRLINES).

Blocked pursuant to E.O. 13224 for being property in which CASPIAN AIR, a person whose property and interest in property are blocked, has an interest.

6. EP-CAP; Aircraft Manufacture Date 18 Sep 1992; Aircraft Model B737; Aircraft Operator Caspian Air; Aircraft Manufacturer's Serial Number (MSN) 26466; Additional Sanctions Information—Subject to Secondary Sanctions (aircraft) [SDGT] [IFSR] (Linked To: CASPIAN AIRLINES).

Blocked pursuant to E.O. 13224 for being property in which CASPIAN AIR, a person whose property and interest in property are blocked, has an interest.

7. EP-CPV; Aircraft Manufacture Date 20 Oct 1990; Aircraft Model DC-9; Aircraft Operator Caspian Air; Aircraft Manufacturer's Serial Number (MSN) 49938; Additional Sanctions Information—Subject to Secondary Sanctions (aircraft) [SDGT] [IFSR] (Linked To: CASPIAN AIRLINES).

Blocked pursuant to E.O. 13224 for being property in which CASPIAN AIR, a person whose property and interest in property are blocked, has an interest.

8. EP-CPX; Aircraft Manufacture Date Jul 1994; Aircraft Model DC-9; Aircraft Operator Caspian Air; Aircraft Manufacturer's Serial Number (MSN) 53463; Additional Sanctions Information—Subject to Secondary Sanctions (aircraft) [SDGT] [IFSR] (Linked To: CASPIAN AIRLINES).

Blocked pursuant to E.O. 13224 for being property in which CASPIAN AIR, a person whose property and interest in property are blocked, has an interest.

9. EP-CPZ; Aircraft Manufacture Date Aug 1994; Aircraft Model DC-9; Aircraft Operator Caspian Air; Aircraft Manufacturer's Serial Number (MSN) 53464; Additional Sanctions Information—Subject to Secondary Sanctions (aircraft) [SDGT] [IFSR] (Linked To: CASPIAN AIRLINES).

Blocked pursuant to E.O. 13224 for being property in which CASPIAN AIR, a person whose property and interest in property are blocked, has an interest.

10. EP-MOS; Aircraft Manufacture Date 15 Mar 1999; Aircraft Model BAe RJ85; Aircraft Operator Mahan Air; Aircraft Manufacturer's Serial Number (MSN) 2347; Additional Sanctions Information—Subject to Secondary Sanctions (aircraft) [SDGT] [IFSR] (Linked To: MAHAN AIR).

Blocked pursuant to E.O. 13224 for being property in which MAHAN AIR, a person whose property and interest in property are blocked, has an interest.

11. EP-MOR; Aircraft Manufacture Date 20 Nov 2001; Aircraft Model BAe RJ85; Aircraft Operator Mahan Air; Aircraft Manufacturer's Serial Number (MSN) 2392; Additional Sanctions Information—Subject to Secondary Sanctions (aircraft) [SDGT] [IFSR] (Linked To: MAHAN AIR).

Blocked pursuant to E.O. 13224 for being property in which MAHAN AIR, a person whose property and interest in property are blocked, has an interest.

12. EP-MOQ; Aircraft Manufacture Date 24 Mar 1995; Aircraft Model BAe RJ85; Aircraft Operator Mahan Air; Aircraft Manufacturer's Serial Number (MSN) 2261; Additional Sanctions Information—Subject to Secondary Sanctions (aircraft) [SDGT] [IFSR] (Linked To: MAHAN AIR).

Blocked pursuant to E.O. 13224 for being property in which MAHAN AIR, a person whose property and interest in property are blocked, has an interest.

13. EP-MOP; Aircraft Manufacture Date 14 Mar 1995; Aircraft Model BAe RJ85; Aircraft Operator Mahan Air; Aircraft Manufacturer's Serial Number (MSN) 2257; Additional Sanctions Information—Subject to Secondary Sanctions (aircraft) [SDGT] [IFSR] (Linked To: MAHAN AIR).

Blocked pursuant to E.O. 13224 for being property in which MAHAN AIR, a person whose property and interest in property are blocked, has an interest.

14. EP-MOM; Aircraft Manufacture Date 12 May 1990; Aircraft Model BAe 146-300; Aircraft Operator Mahan Air; Aircraft Manufacturer's Serial Number (MSN) 3165; Additional Sanctions Information—Subject to Secondary Sanctions (aircraft) [SDGT] [IFSR] (Linked To: MAHAN AIR).

Blocked pursuant to E.O. 13224 for being property in which MAHAN AIR, a person whose property and interest in property are blocked, has an interest.

15. EP-MOD; Aircraft Manufacture Date 12 Nov 1990; Aircraft Model BAe 146-300; Aircraft Operator Mahan Air; Aircraft Manufacturer's Serial Number (MSN) 3162; Additional Sanctions Information—Subject to Secondary Sanctions (aircraft) [SDGT] [IFSR] (Linked To: MAHAN AIR).

Blocked pursuant to E.O. 13224 for being property in which MAHAN AIR, a person whose property and interest in property are blocked, has an interest.

16. EP-MNF; Aircraft Manufacture Date 07 Aug 1990; Aircraft Model A310-304; Aircraft Operator Mahan Air; Aircraft Manufacturer's Serial Number (MSN) 547; Additional Sanctions Information—Subject to Secondary Sanctions (aircraft) [SDGT] [IFSR] (Linked To: MAHAN AIR).

Blocked pursuant to E.O. 13224 for being property in which MAHAN AIR, a person whose property and interest in property are blocked, has an interest.

17. EP-MMV; Aircraft Manufacture Date 12 Aug 1987; Aircraft Model BAe 146-200; Aircraft Operator Mahan Air; Aircraft Manufacturer's Serial Number (MSN) 2079; Additional Sanctions Information—Subject to Secondary Sanctions (aircraft) [SDGT] [IFSR] (Linked To: MAHAN AIR).

Blocked pursuant to E.O. 13224 for being property in which MAHAN AIR, a person whose property and interest in property are blocked, has an interest.

18. EP-MMJ; Aircraft Manufacture Date 05 Oct 1989; Aircraft Model A310-304; Aircraft Operator Mahan Air; Aircraft Manufacturer's Serial Number (MSN) 526; Additional Sanctions Information—Subject to Secondary Sanctions (aircraft) [SDGT] [IFSR] (Linked To: MAHAN AIR).

Blocked pursuant to E.O. 13224 for being property in which MAHAN AIR, a person whose property and interest in property are blocked, has an interest.

19. EP-MMC; Aircraft Manufacture Date 18 Jun 1999; Aircraft Model A340-313X; Aircraft Operator Mahan Air; Aircraft Manufacturer's Serial Number (MSN) 282; Additional Sanctions Information—Subject to Secondary Sanctions (aircraft) [SDGT] [IFSR] (Linked To: MAHAN AIR).

Blocked pursuant to E.O. 13224 for being property in which MAHAN AIR, a person whose property and interest in property are blocked, has an interest.

20. EP-MMB; Aircraft Manufacture Date 07 Dec 1994; Aircraft Model A340-311; Aircraft Operator Mahan Air; Aircraft Manufacturer's Serial Number (MSN) 56; Additional Sanctions Information—Subject to Secondary Sanctions (aircraft) [SDGT] [IFSR] (Linked To: MAHAN AIR).

Blocked pursuant to E.O. 13224 for being property in which MAHAN AIR, a person whose property and interest in property are blocked, has an interest.

21. EP-MMA; Aircraft Manufacture Date 08 Sep 1993; Aircraft Model A340-311; Aircraft Operator Mahan Air; Aircraft Manufacturer's Serial Number (MSN) 20; Additional Sanctions Information—Subject to Secondary Sanctions (aircraft) [SDGT] [IFSR] (Linked To: MAHAN AIR).

Blocked pursuant to E.O. 13224 for being property in which MAHAN AIR, a person whose property and interest in property are blocked, has an interest.

22. EP-SIG; Aircraft Manufacture Date 15 Feb 1995; Aircraft Model A300; Aircraft Operator Meraj Air; Aircraft Manufacturer's Serial Number (MSN) 750; Additional Sanctions Information—Subject to Secondary Sanctions (aircraft) [SDGT] [IFSR] (Linked To: MERAJ AIR).

Blocked pursuant to E.O. 13224 for being property in which MERAJ AIR, a person whose property and interest in property are blocked, has an interest.

23. EP-SIF; Aircraft Manufacture Date 19 Oct 1995; Aircraft Model A300; Aircraft Operator Meraj Air; Aircraft Manufacturer's Serial Number (MSN) 762; Additional Sanctions Information—Subject to Secondary Sanctions (aircraft) [SDGT] [IFSR] (Linked To: MERAJ AIR).

Blocked pursuant to E.O. 13224 for being property in which MERAJ AIR, a person whose property and interest in property are blocked, has an interest.

24. EP-AJI; Aircraft Manufacture Date 11 Aug 2000; Aircraft Model A320; Aircraft Operator Meraj Air; Aircraft Manufacturer's Serial Number (MSN) 1300; Additional Sanctions Information—Subject to Secondary Sanctions (aircraft) [SDGT] [IFSR] (Linked To: MERAJ AIR).

Blocked pursuant to E.O. 13224 for being property in which MERAJ AIR, a person whose property and interest in property are blocked, has an interest.

25. EP-AJH; Aircraft Manufacture Date 27 Oct 2000; Aircraft Model A320; Aircraft Operator Meraj Air; Aircraft Manufacturer's Serial Number (MSN) 1353; Additional Sanctions Information—Subject to Secondary Sanctions (aircraft) [SDGT] [IFSR] (Linked To: MERAJ AIR).

Blocked pursuant to E.O. 13224 for being property in which MERAJ AIR, a person whose property and interest in property are blocked, has an interest.

26. EP-AJC; Aircraft Manufacture Date 28 Feb 1995; Aircraft Model A320; Aircraft Operator Meraj Air; Aircraft Manufacturer's Serial Number (MSN) 530; Additional Sanctions Information—Subject to Secondary Sanctions (aircraft) [SDGT] [IFSR] (Linked To: MERAJ AIR).

Blocked pursuant to E.O. 13224 for being property in which MERAJ AIR, a person whose property and interest in property are blocked, has an interest.

27. EP-PUM; Aircraft Manufacture Date 2002; Aircraft Model An-74; Aircraft Operator Pouya Air; Aircraft Manufacturer's Serial Number (MSN) 3654701211059; Additional Sanctions Information—Subject to Secondary Sanctions (aircraft) [SDGT] [IRGC] [IFSR] (Linked To: POUYA AIR).

Blocked pursuant to E.O. 13224 for being property in which POUYA AIR, a person whose property and interest in property are blocked, has an interest.

28. EP-PUL; Aircraft Manufacture Date 1983; Aircraft Model IL-76; Aircraft Operator Pouya Air; Aircraft Manufacturer's Serial Number (MSN) 33448393; Additional Sanctions Information—Subject to Secondary Sanctions (aircraft) [SDGT] [IRGC] [IFSR] (Linked To: POUYA AIR).

Blocked pursuant to E.O. 13224 for being property in which POUYA AIR, a person whose property and interest in property are blocked, has an interest.

29. EP-PUA; Aircraft Manufacture Date 1998; Aircraft Model An-74; Aircraft Operator Pouya Air; Aircraft Manufacturer's Serial Number (MSN) 3654701211055; Additional Sanctions Information—Subject to Secondary Sanctions (aircraft) [SDGT] [IRGC] [IFSR] (Linked To: POUYA AIR).

Blocked pursuant to E.O. 13224 for being property in which POUYA AIR, a person whose property and interest in property are blocked, has an interest.

30. EP-LDC; Aircraft Manufacture Date 26 Sep 1997; Aircraft Model ERJ-145; Aircraft Operator Pouya Air; Aircraft Manufacturer's Serial Number (MSN) 145026; Additional Sanctions Information—Subject to Secondary Sanctions (aircraft) [SDGT] [IRGC] [IFSR] (Linked To: POUYA AIR).

Blocked pursuant to E.O. 13224 for being property in which POUYA AIR, a person whose property and interest in property are blocked, has an interest.

31. EP-LDA; Aircraft Manufacture Date 17 Sep 1997; Aircraft Model ERJ-145; Aircraft Operator Pouya Air; Aircraft Manufacturer's Serial Number (MSN) 145025; Additional Sanctions Information—Subject to Secondary Sanctions (aircraft) [SDGT] [IRGC] [IFSR] (Linked To: POUYA AIR).

Blocked pursuant to E.O. 13224 for being property in which POUYA AIR, a person whose property and interest in property are blocked, has an interest.

Dated: May 24, 2018.
Andrea M. Gacki,
Acting Director, Office of Foreign Assets Control.

[FR Doc. 2018-12768 Filed 6-13-18; 8:45 am]

BILLING CODE 4810-AL-P